DEPARTMENT OF TRANSPORTATION

Federal Highway Administration

Notice To Rescind Notice of Intent To Prepare an Environmental Impact Statement; Mahoning and Trumbull Counties, OH

AGENCY: Federal Highway Administration (FHWA), DOT.

ACTION: Rescind Notice of Intent (NOI) to prepare an Environmental Impact Statement (EIS).

SUMMARY: The FHWA is issuing this notice to advise the public that we are rescinding the NOI published on November 5, 2004 to prepare an EIS for improvements that were proposed to the transportation system on US 62 in the cities of Youngstown and Hubbard in Mahoning and Trumbull Counties, Ohio.

FOR FURTHER INFORMATION CONTACT: Noel F. Mehlo Jr., Environmental Program Manager, Federal Highway Administration, 200 North High Street, Room 328, Columbus, Ohio 43215, Telephone: (614) 280-6841.

SUPPLEMENTARY INFORMATION: The FHWA, in cooperation with the ODOT is rescinding the NOI to prepare an EIS for a project that had been proposed to improve the transportation system in Mahoning and Trumbull Counties, Ohio. The NOI is being rescinded because ODOT lacks funding to build this project. It was determined that while the EIS could be completed, the funding reality is such that the project could not be designed or constructed for many years into the future and the project can no longer demonstrate fiscal constraint. Fiscal Constraint is a demonstration that the entire program of projects can be implemented, and is a requirement of federal regulation.

Catalog of Federal Domestic Assistance Number and Title: FHWA 20.205 Highway Planning and Construction (A, B).

Authority: 23 U.S.C. 315; 49 CFR 1.48.

Issued on: April 16, 2012.
Laura S. Leffler,
Division Administrator, Federal Highway Administration, Columbus, Ohio.

[FR Doc. 2012-10003 Filed 4-25-12; 8:45 am]

BILLING CODE 4910-22-P